INTERNATIONAL TRADE COMMISSION

[USITC SE-15-033]

Government in the Sunshine Act Meeting

AGENCY HOLDING THE MEETING: United States International Trade Commission.

TIME AND DATE: October 14, 2015 at 9:30 a.m.

PLACE: Room 101, 500 E Street SW., Washington, DC 20436, Telephone: (202) 205-2000.

STATUS: Open to the public.

MATTERS TO BE CONSIDERED:

1. Agendas for future meetings: None

2. Minutes

3. Ratification List

4. Vote in Inv. No. 731-TA-149 (Fourth Review) (Barium Chloride from China). The Commission is currently scheduled to complete and file its determination and views of the Commission on October 27, 2015.

5. Vote in Inv. Nos. 701-TA-437 and 731-TA-1060-1061 (Second Review) (Carbazole Violet Pigment 23 from China and India). The Commission is currently scheduled to complete and file its determinations and views of the Commission on November 2, 2015.

6. Outstanding action jackets: None

In accordance with Commission policy, subject matter listed above, not disposed of at the scheduled meeting, may be carried over to the agenda of the following meeting.

By order of the Commission.
Issued: October 6, 2015.
William R. Bishop,
Supervisory Hearings and Information Officer.

[FR Doc. 2015-25846 Filed 10-6-15; 4:15 pm]

BILLING CODE 7020-02-P